DEPARTMENT OF LABOR

Employment and Training Administration

Agency Information Collection Activities; Pre-Apprenticeship—Pathways to Success Database Comment Request

ACTION: Notice.

SUMMARY: The Department of Labor's (DOL) Employment and Training Administration (ETA) is soliciting comments concerning a proposed extension for the authority to conduct the information collection request (ICR) titled, “Pre-Apprenticeship—Pathways to Success.” This comment request is part of continuing Departmental efforts to reduce paperwork and respondent burden in accordance with the Paperwork Reduction Act of 1995 (PRA).

DATES: Consideration will be given to all written comments received by March 14, 2022.

ADDRESSES: A copy of this ICR with applicable supporting documentation, including a description of the likely respondents, proposed frequency of response, and estimated total burden, may be obtained free by contacting Natalie Linton by telephone at 202-693-3592 (this is not a toll-free number), TTY 1-877-889-5627 (this is not a toll-free number), or by email at Linton.Natalie.S@dol.gov.

Submit written comments about, or requests for a copy of, this ICR by mail or courier to the U.S. Department of Labor, Employment and Training Administration, Office of Apprenticeship, 200 Constitution Avenue NW, Room N-5321, Washington, DC 20210; by email: Linton.Natalie.S@dol.gov; or by fax: 202-693-3592.

FOR FURTHER INFORMATION CONTACT: Natalie Linton by telephone at 202-693-3592 (this is not a toll-free number) or by email at Linton.Natalie.S@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed. The National Apprenticeship Act of 1937, as amended (29 U.S.C. 50), authorizes this information collection.

Through a variety of approaches, pre-apprenticeship programs can be adapted to meet the needs to train different populations, the various employers and other sponsors they serve, and the specific opportunities available in the local labor market. The online database of quality pre-apprenticeship programs provides a valuable tool for job seekers, apprenticeship programs, and American Job Centers' front-line staff. A dedicated database provides a way for job seekers and apprenticeship programs to access pre-apprenticeship programs that meet the requirements outlined in Training and Employment Notice (TEN) 13-12: “Defining a Quality Pre-Apprenticeship Program and Related Tools and Resources.” The “Pre-apprenticeship—Pathways to Success” database enables ETA to identify pre-apprenticeship programs that meet the “quality pre-apprenticeship” definition and the quality framework criteria. Even more importantly, a national database of pre-apprenticeship programs facilitates connections between pre-apprenticeship program participants and apprenticeship programs, resulting in expanded opportunities. This voluntary data is collected using an online form. The public seeking information about pre-apprenticeship programs goes to a map on a website, chooses a state, and views information about the location of pre-apprenticeship programs, including general descriptions of the services and training they provide. ETA is proposing an extension for the authority to conduct the information collection “Pre-Apprenticeship—Pathways to Success,” to continue to utilize the database and make updates to the online form. Additionally, OA removed approximately ten (10) questions to streamline the instrument. During the past several years, ETA has worked to expand pre-apprenticeships and apprenticeships with new companies in high demand industries.

The current online form does not contain questions on new types of programs and their employer and educational institution partners. This data is instrumental in helping expand the functionality and usage of the database.

The National Apprenticeship Act of 1937, (subsequently referred to as “the Act”) Section 50 (29 U.S.C. 50), authorizes and directs the Secretary of Labor “to formulate and promote the furtherance of labor standards necessary to safeguard the welfare of apprentices, to extend the application of such standards by encouraging the inclusion thereof in contracts of apprenticeship, to bring together employers and labor for formulating programs of apprenticeship, to cooperate with State Apprenticeship Agencies (SAAs) engaged in formulating and promoting standards of apprenticeship, and to cooperate with the Secretary of Education in accordance with Section 17 of Title 20. Section 50a of the Act authorizes the Secretary of Labor to “publish information relating to existing and proposed labor standards of apprenticeship,” and to “appoint national advisory committees . . .” (29 U.S.C. 50a). The administration of the system is guided by Title 29 Code of Federal Regulations (CFR), part 29, regulations that were updated in 2008 to address the 21st century workforce needs as well as enhance accountability of the recognized SAAs.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0520.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Pre-Apprenticeship—Pathways to Success.

Form: Pre-Apprenticeship—Contact and Program Information.

OMB Control Number: 1205-0520.

Affected Public: Private sector (businesses or other for-profits and not-for-profit institutions), secondary and post-secondary institutions.

Estimated Number of Respondents: 100.

Frequency: Annually.

Total Estimated Annual Responses: 100.

Estimated Average Time per Response: 8 hours.

Estimated Total Annual Burden Hours: 43 hours.

Total Estimated Annual Other Cost Burden: $0.

Angela Hanks,
Acting Assistant Secretary for Employment and Training, Labor.

[FR Doc. 2022-00394 Filed 1-11-22; 8:45 am]

BILLING CODE 4510-FR-P